NATIONAL SCIENCE FOUNDATION

Committee Management; Renewals

The NSF management officials having responsibility for the advisory committees listed below have determined that renewing these groups for another two years is necessary and in the public interest in connection with the performance of duties imposed upon the Director, National Science Foundation (NSF), by 42 U.S.C. 1861 et seq. This determination follows consultation with the Committee Management Secretariat, General Services Administration.

Committees:

Advisory Committee for Computer and Information Science and Engineering, #1115;

Advisory Committee for GPRA Performance Assessment, #13853;

Advisory Committee for Mathematical and Physical Sciences, #66;

Advisory Committee for Social, Behavioral and Economic Sciences, #1171;

Business and Operations Advisory Committee, #9556;

Committee on Equal Opportunities in Science and Engineering, #1173;

Proposal Review Panel for Astronomical Sciences, #1186;

Proposal Review Panel for Chemical, Bioengineering, Environmental and Transport Systems, #1189;

Proposal Review Panel for Chemistry, #1191;

Proposal Review Panel for Civil, Mechanical and Manufacturing Innovation, #1194;

Proposal Review Panel for Computer and Network Systems, #1207;

Proposal Review Panel for Computing & Communication Foundations, #1192;

Proposal Review Panel for Cyberinfrastructure, #1185;

Proposal Review Panel for Electrical, Communications and Cyber Systems, #1196;

Proposal Review Panel for Engineering Education and Centers, #173;

Proposal Review Panel for Experimental Programs to Stimulate Competitive Research, #1198;

Proposal Review Panel for Graduate Education, #57;

Proposal Review Panel for Human Resource Development, #1199;

Proposal Review Panel for Information and Intelligent Systems, #1200;

Proposal Review Panel for Materials Research, #1203;

Proposal Review Panel for Mathematical Sciences, #1204;

Proposal Review Panel for Physics, #1208;

Proposal Review Panel for Polar Programs, #1209;

Proposal Review Panel for Undergraduate Education, #1214.

Effective date for renewal is July 1, 2008. For more information, please contact Susanne Bolton, NSF, at (703) 292-7488.

Dated: June 25, 2008.
Susanne Bolton,
Committee Management Officer.

[FR Doc. E8-14814 Filed 6-30-08; 8:45 am]

BILLING CODE 7555-01-P